DEPARTMENT OF COMMERCE

International Trade Administration

[A-570-964]

Seamless Refined Copper Pipe and Tube From the People's Republic of China: Final Results of Antidumping Duty Administrative Review; 2013-2014

AGENCY: Enforcement and Compliance, International Trade Administration, Department of Commerce.

SUMMARY: On December 7, 2015, the Department of Commerce (“the Department”) published in the Federal Register the preliminary results of the 2013-2014 administrative review of the antidumping duty order on seamless refined copper pipe and tube from the People's Republic of China (“PRC”).¹ The period of review (“POR”) is November 1, 2013, through October 31, 2014. We invited parties to comment on our Preliminary Results. Based on our analysis of the comments received, we made certain changes to the margin calculations for the mandatory respondent Golden Dragon Precise Copper Tube Group, Inc., Hong Kong GD Trading Co., Ltd., and Golden Dragon Holding (Hong Kong) International, Ltd. and eight affiliated producers that comprise the GD Single Entity.² The final weighted-average dumping margins for this review are listed in the “Final Results” section below.

¹ See Seamless Refined Copper Pipe and Tube from the People's Republic of China: Preliminary Results and Partial Rescission of Administrative Review; 2013-2014, 80 FR 75968 (December 7, 2015) (“Preliminary Results”).

² The GD Single Entity includes the following companies: (1) Golden Dragon Precise Copper Tube Group, Inc.; (2) Golden Dragon Holding (Hong Kong) International, Ltd.; (3) Hong Kong GD Trading Co., Ltd.; (4) Shanghai Longyang Precise Copper Compound Copper Tube Co., Ltd.; (5) Jiangsu Canghuan Copper Industry Co., Ltd.; (6) Guangdong Longfeng Precise Copper Tube Co., Ltd.; (7) Wuxi Jinlong Chuancun Precise Copper Tube Co., Ltd.; (8) Longkou Longpeng Precise Copper Tube Co., Ltd.; (9) Xinxiang Longxiang Precise Copper Tube Co., Ltd.; (10) Coaxian Ailun Metal Processing Co., Ltd.; and (11) Chonqing Longyu Precise Copper Tube Co., Ltd. (the “GD Single Entity”). See Preliminary Results at 75968.

DATES: Effective Date: June 20, 2016.

FOR FURTHER INFORMATION CONTACT: Drew Jackson, AD/CVD Operations, Office IV, Enforcement and Compliance, International Trade Administration, U.S. Department of Commerce, 14th Street and Constitution Avenue NW., Washington, DC 20230; telephone: (202) 482-4406.

SUPPLEMENTARY INFORMATION:

Background

On December 7, 2015, the Department published its Preliminary Results. On February 11, 2016, the Golden Dragon Group Companies ³ submitted a case brief and on February 16, 2016, Cerro Flow Products, LLC, Wieland Copper Products, LLC, Mueller Copper Tube Products Inc., and Mueller Copper Tube Company, Inc. (collectively, “Petitioners”) submitted a rebuttal brief.⁴ In accordance with 19 CFR 351.302(d)(1)(i) and 19 CFR 351.104(a)(2)(ii), on March 28, 2016, the Department rejected the Golden Dragon Group Companies' case brief because it contained untimely filed new factual information.⁵ On March 29, 2016, the Golden Dragon Group Companies resubmitted a redacted version of this case brief.⁶

³ Respondent's submissions in this administrative review are filed on behalf of Golden Dragon Precise Copper Tube Group, Inc., Hong Kong GD, Trading Co., Ltd., GD Copper Cooperatief UA, Golden Dragon Holding (Hong Kong) International, Ltd., and GD Copper (U.S.A.) (“Golden Dragon Group Companies”).

⁴ See Submission to the Department from the Petitioners, concerning, “Rebuttal Brief of the Copper Tube Coalition,” dated February 16, 2016.

⁵ See Letter to the Golden Dragon Group Companies from Robert Bolling, Program Manager, AD/CVD Operations, Office IV, dated March 28, 2016.

⁶ See Letter to the Department from the Golden Dragon Group Companies, concerning, “Resubmitted Case Brief; Seamless Refined Copper Pipe and Tube from China,” dated March 29, 2016.

Extension of Deadlines for Final Results

As explained in the memorandum from the Acting Assistant Secretary for Enforcement & Compliance, the Department has exercised its discretion to toll all administrative deadlines due to the recent closure of the Federal Government.⁷ All deadlines in this segment of the proceeding have been extended by four days. Additionally, on March 23, 2016, the Department extended the time period for issuing the final results of this review by 60 days.⁸ The revised deadline for these final results of review is June 10, 2016.

⁷ See Memorandum to the Record from Ron Lorentzen, Acting A/S for Enforcement & Compliance, regarding, “Tolling of Administrative Deadlines As a Result of the Government Closure During Snowstorm Jonas,” dated January 27, 2016.

⁸ See Memorandum to Gary Taverman, Associate Deputy Assistant Director, Antidumping and Countervailing Duty Operations, through Abdelali Elouaradia, Office Director, Antidumping and Countervailing Duty Operations, Office IV, concerning, “2013-2014 Administrative Review of the Antidumping Duty Order on Seamless Refined Copper Pipe and Tube from the People's Republic of China: Extension of Deadline for Final Results of Antidumping Duty Administrative Review,” dated March 23, 2016.

Scope of the Order

The merchandise subject to the order is seamless refined copper pipe and tube. The product is currently classified under Harmonized Tariff Schedule of the United States (“HTSUS”) item numbers 7411.10.1030 and 7411.10.1090. Products subject to this order may also enter under HTSUS item numbers 7407.10.1500, 7419.99.5050, 8415.90.8065, and 8415.90.8085. Although the HTSUS numbers are provided for convenience and customs purposes, the written description of the scope of this order remains dispositive.⁹

⁹ For a complete description of the scope of this order, see Memorandum to Paul Piquado, Assistant Secretary for Enforcement and Compliance, from Christian Marsh, Deputy Assistant Secretary for Antidumping and Countervailing Duty Operations, regarding “Issues and Decision Memorandum for the Final Results of the 2013-2014 Administrative Review of the Antidumping Duty Order on Seamless Refined Copper Pipe and Tube from the People's Republic of China” (“Issues and Decision Memorandum”), dated concurrently with, and hereby adopted by, this notice.

Analysis of Comments Received

All issues raised in the case and rebuttal briefs filed by parties in this review are addressed in the Issues and Decision Memorandum. A list of the issues that parties raised and to which we responded in the Issues and Decision Memorandum follows as an appendix to this notice. The Issues and Decision Memorandum is a public document and is on file electronically via Enforcement and Compliance's Antidumping and Countervailing Duty Centralized Electronic Service System (“ACCESS”). ACCESS is available to registered users at http://access.trade.gov, and is available to all parties in the Central Records Unit, room B8024 of the main Department of Commerce building. In addition, a complete version of the Issues and Decision Memorandum can be accessed directly at http://enforcement.trade.gov/frn/index.html. The signed paper copy and electronic version of the Issues and Decision Memorandum are identical in content.

Changes Since the Preliminary Results

Based on a review of the record and comments received from interested parties regarding our Preliminary Results, we made the following revisions to the margin calculations for the GD Single Entity: ¹⁰

¹⁰ See Issues and Decision Memorandum.

• We revised a deduction for unrefunded VAT from the calculation of net U.S. price.

• We revised the valuation of the by-product offset for recycled copper.

• We revised the distance used in our calculation of inland freight expenses using record information.

Verification

As provided in section 782(i) of the Tariff Act of 1930, as amended (the “Act”), the Department verified information provided by the Golden Dragon Group Companies.¹¹ The Department conducted the verification using standard verification procedures including the examination of relevant records and the selection and review of original documentation containing relevant information. The results of the verification are outlined in the public version of the verification reports. The verification reports are on file electronically via ACCESS.

¹¹ See Memorandum to the File through Robert Bolling, Program Manager, AD/CVD Operations, Office IV, concerning, “Verification of the Constructed Export Price Sales Questionnaire Responses of GD Copper (U.S.A.), Inc.,” dated January 1, 2016. See also Memorandum to the File through Robert Bolling, Program Manager, AD/CVD Operations, Office IV, concerning, “Verification of the Questionnaire Responses of Golden Dragon Precise Copper Tube Group, Inc.,” dated February 3, 2016.

Final Results

We determine that the following weighted-average dumping margin exists for the POR:

Exporter | Weighted-Average dumping margin (percent)
Golden Dragon Precise Copper Tube Group, Inc./Golden Dragon Holding (Hong Kong) International Co., Ltd./Hong Kong GD Trading Co., Ltd./Shanghai Longyang Precise Copper Compound Copper Tube Co., Ltd./Jiangsu Canghuan Copper Industry Co., Ltd./Guangdong Longfeng Precise Copper Tube Co., Ltd./Wuxi Jinlong Chuancun Precise Copper Tube Co., Ltd./Longkou Longpeng Precise Copper Tube Co., Ltd./Xinxiang Longxiang Precise Copper Tube Co., Ltd./Coaxian Ailun Metal Processing Co., Ltd./Chonqing Longyu Precise Copper Tube Co., Ltd | 0.00

Assessment

Pursuant to section 751(a)(2)(A) of the Act, and 19 CFR 351.212(b), the Department will determine, and U.S. Customs and Border Protection (“CBP”) shall assess, antidumping duties on all appropriate entries covered by this review. The Department intends to issue assessment instructions to CBP 15 days after the publication date of the final results of this review.

For the companies identified above, which comprise the GD Single Entity, the weighted-average dumping margin is zero. Therefore, the Department will instruct CBP to liquidate appropriate entries by the companies that comprise the GD Single Entity without regard to antidumping duties.¹² For entries that were not reported in the U.S. sales databases submitted by companies individually examined during this review, the Department will instruct CBP to liquidate such entries at the PRC-wide rate.

¹² See 19 CFR 351.212(b)(1).

For entries that were not reported in the U.S. sales databases submitted by companies individually examined during this review, the Department will instruct CBP to liquidate such entries at the PRC-wide rate.

Cash Deposit Requirements

The following cash deposit requirements will be effective upon publication of the final results of this administrative review for shipments of the subject merchandise from the PRC entered, or withdrawn from warehouse, for consumption on or after the publication date, as provided by section 751(a)(2)(C) of the Act: (1) For the exporters identified above, the cash deposit rate will be zero; (2) for previously investigated or reviewed PRC and non-PRC exporters that received a separate rate in a previously completed segment of this proceeding, the cash deposit rate will continue to be the existing exporter-specific rate; (3) for all PRC exporters of subject merchandise that have not been found to be entitled a separate rate, the cash deposit rate will be that for the PRC-wide entity (i.e., 60.85 percent); and (4) for all non-PRC exporters of subject merchandise which have not received their own rate, the cash deposit rate will be the rate applicable to the PRC exporter that supplied that non-PRC exporter. These deposit requirements, when imposed, shall remain in effect until further notice.

Disclosure

We intend to disclose the calculations performed regarding these final results within five days of the date of publication of this notice in accordance with 19 CFR 351.224(b).

Notification to Importers Regarding the Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Notifications to All Parties

This notice also serves as a reminder to parties subject to Administrative Protective Order (“APO”) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

We are issuing and publishing these final results of administrative review and notice in accordance with sections 751(a)(1) and 777(i) of the Act.

Dated: June 10, 2016.
Paul Piquado,
Assistant Secretary for Enforcement and Compliance.

Appendix—Issues and Decision Memorandum

Summary

Background

Scope of the Order

Discussion of the Issues

Comment 1: Surrogate Value for Recovered Copper By-Product

Comment 2: Application of Financial Ratios to Recovered Inputs

Comment 3: Inland Freight Surrogate Value

Comment 4: Distance From Port to Warehouse

Comment 5: Calculation of Unrecovered Value-Added Tax (“VAT”)

Comment 6: Whether To Value Water as a Direct Material Input Recommendation

[FR Doc. 2016-14426 Filed 6-17-16; 8:45 am]

BILLING CODE 3510-DS-P